DEPARTMENT OF TRANSPORTATION

Coast Guard

[USCG-2002-14069]

Maritime Security

AGENCY: Coast Guard, DOT.

ACTION: Notice of meetings; request for comments—correction.

SUMMARY: On December 30, 2002, the Coast Guard published a notice of meetings and request for comments in the Federal Register concerning requirements for security assessments, plans, and specific security measures for ports, vessels, and facilities. This document contains corrections to that notice.

FOR FURTHER INFORMATION CONTACT: For information concerning this notice or the public meetings, write or call Mr. Martin Jackson of the Office of Standards Evaluation and Development (G-MSR), U.S. Coast Guard Headquarters, 2100 Second Street, SW., Washington, DC 20593, mjackson@comdt.uscg.mil, or call at 202-267-1140.

Need for Correction

As published, the Coast Guard's December 30, 2002 Maritime Security notice of meetings and request for comments (67 FR 79741-79806) contains typographical errors and omissions that may prove to be misleading and therefore need to be corrected.

Correction

In notice FR Doc. 02-32845, published December 30, 2002 (67 FR 79741), make the following corrections:

1. On page 79743, in the third column, starting on line 57, immediately after the words “Navigation and Vessel Inspection Circular (NVIC) 3-96,” correct “Change 2” to read “Change 1.”

2. On page 79744, in the first column, on line 5, correct “NVIC 3-96” to read “NVIC 3-96, Change 1”.

3. On page 79745, in the third column, starting on line 7, correct “$1.4 billion” to read “$1.3 billion”.

4. On page 79782, in the second column, in line 17, correct “$1.4 billion” to read “$1.3 billion”.

5. On page 79782, in the second column, in line 32, correct “141,000 hours” to read “140,000 hours”.

6. On page 79782, in the second column, in line 45, correct “464,000 hours” to read “465,000 hours”.

7. On page 79790, in the heading for table 24, correct “>500” to read “≤500”.

Dated: January 3, 2003.
L.L. Hereth,
RADM U.S. Coast Guard, Director, Port Security.

[FR Doc. 03-344 Filed 1-7-03; 8:45 am]

BILLING CODE 4910-15-P